COMMISSION ON CIVIL RIGHTS

Agenda and Notice of Public Meeting of the Colorado Advisory Committee

Notice is hereby given, pursuant to the provisions of the rules and regulations of the U.S. Commission on Civil Rights, that a planning meeting with briefing of the Colorado State Advisory Committee will convene at 3:30 p.m. (m.d.t.) and adjourn at 4:30 p.m. (m.d.t.) and, the briefing will convene at 5 p.m. (m.d.t.) and adjourn at 7:30 p.m. (m.d.t.), Friday, March 26, 2004, at The Doubletree Hotel, 501 Camino Del Rio, Durango, CO 81301. The purpose of the meetings is to plan future projects and to discuss current civil rights issues in the state.

Persons desiring additional information, or planning a presentation to the Committee, should contact John Dulles, Director of the Rocky Mountain Regional Office, (303) 866-1040 (TDD 303-866-1049). Hearing impaired persons who will attend the meeting and require the services of a sign language interpreter should contact the Regional Office at least ten (10) working days before the scheduled date of the meeting.

The meeting will be conducted pursuant to the provisions of the rules and regulations of the Commission.

Dated in Washington, DC, February 18, 2004.
Dawn Sweet,
Editor.

[FR Doc. 04-4957 Filed 3-4-04; 8:45 am]

BILLING CODE 6335-01-P